DEPARTMENT OF THE INTERIOR

Office of the Secretary

Privacy Act of 1974, as Amended; Addition of a New System of Records

AGENCY: Department of the Interior.

ACTION: Proposed addition of a new system of records.

SUMMARY: The Department of the Interior is issuing public notice of its intent to add a new Privacy Act system of records to its inventory of records systems subject to the Privacy Act of 1974 (5 U.S.C. 552a). This action is necessary to meet the requirements of the Privacy Act to publish in the Federal Register notice of the existence and character of records systems maintained by the agency (5 U.S. C. 552a(e)(4)). The new system of records is called the Electronic Email Archive System (EEAS), Interior—OS-10.

EFFECTIVE DATE: 5 U.S.C. 552a(e)(11) requires that the public be provided a 30-day period in which to comment on the intended use of the information in the system of records. Any persons interested in commenting on this proposed system of records may do so by submitting comments in writing to the Departmental Privacy Act Officer, U.S. Department of the Interior, Office of the Chief Information Officer, MS 5312 MIB, 1849 C Street NW., Washington, DC 20240.

Comments received within 30 days of publication in the Federal Register will be considered. The system will be effective as proposed at the end of the comment period unless comments are received which would require a contrary determination. In that case the Department will publish any changes to the routine uses.

FOR FURTHER INFORMATION CONTACT: For information on the Electronic Email Archive System contact Regina Lawrence, Office of the Chief Information Officer, Department of the Interior at 202-208-5413, or mail at MS-5312-MIB, 1849 C St. NW., Washington, DC 20240.

SUPPLEMENTARY INFORMATION: The Interior Electronic Email Archive System (EEAS) will contain data from certain Department of the Interior bureaus/offices with Indian Trust program responsibilities for the purpose of responding to discovery requests from plaintiffs and requests from the Court, the Special Master, and the Court Monitor in Cobell et al. v. Norton, et al., U.S.D.C. D.C., No. 1:96CV01285. The capability of the system to retrieve information from an email archive depository will assist compliance with court requirements.

Dated: July 9, 2002
Marilyn Legnini,
Departmental Privacy Act Officer, Office of the Chief Information Officer.

INTERIOR/OS-10.

System name:

Electronic Email Archive System (EEAS).

Security classification:

Sensitive, but unclassified.

System location:

The records of this system are located at a digital safe site at a location managed by the contractor for the Department of the Interior. Only information maintained at this site by the contractor is considered a Privacy Act system of records covered by this notice.

Categories of individuals covered by the system:

The system contains information on individuals who send and receive electronic messages using Internet email and interoffice email from and to those Departmental bureaus/offices involved with Indian Trust programs, and those individuals who are referred to in the electronic messages. These bureaus/offices are as follows: Office of the Solicitor, Bureau of Indian Affairs, Office of the Special Trustee for American Indians, Office of the Assistant Secretary—Indian Affairs, Bureau of Land Management, Office of the Assistant Secretary—Policy, Management, and Budget, Office of Hearings and Appeals, Office of Historical Trust Accounting, Office of the Secretary, and the Minerals Management Service.

Categories of records in the system:

Records include information from Internet email and interoffice email, including address of sender and receiver(s), subject, date sent or received, text of the message, name of attachment, attachment text, and certification status. The name and email address of the sender and receiver are captured along with the bcc, cc, subject line, and text of the message.

Authority for maintenance of the system:

5 USC 301, 43 CFR 1455, and 40 CFR part 1441.

Routine uses of records maintained in the system, including categories of users and the purposes of such uses:

The system's main purpose is to respond to discovery requests from plaintiffs and requests from the Court, the Special Master, and the Court Monitor in the Cobell v. Norton litigation, filed in the U.S. District Court for the District of Columbia.

Disclosures outside the Department of the Interior can be made to:

(a) Contractors who service and maintain the system for the Department, ensuring that all provisions of the Privacy Act, and all other applicable laws, regulations, and policies relating to contracting and record security are met.

(b) Another Federal agency to enable that agency to respond to an inquiry by the individual to whom the record pertains.

(c) The Department of Justice, or to a court, adjudicative or other administrative body, or to a party in litigation before a court or adjudicative or administrative body, when:

(1) One of the following is a party to the proceeding or has an interest in the proceeding:

(a) The Department or any component of the Department;

(b) Any Departmental employee acting in his or her official capacity;

(c) Any Departmental employee acting in his or her individual capacity where the Department or the Department of Justice has agreed to represent the employee; and

(2) We deem the disclosure to be:

(a) Relevant and necessary to the proceeding; and

(b) Compatible with the purpose for which we compiled the information.

(d) The appropriate Federal agency that is responsible for investigating, prosecuting, enforcing or implementing a statute, rule, regulation or order, when we become aware of an indication of a violation or potential violation of the statute, rule, regulation, or order.

(e) A congressional office in response to an inquiry to that office by the individual to whom the record pertains.

Policies and practices for storing, retrieving, accessing, retaining, and disposing of records in the system:

Storage:

Information in this system of records is maintained in electronic format on a system hard drive.

Retrievability:

This specific system has the capability of performing searches through email archive information identified in the “Category of records” section above using any word or number criteria. This capability makes it unique from other email archive systems that are maintained by Interior bureaus/offices, and therefore, this system becomes subject to Privacy Act requirements.

Safeguards:

The contractor maintaining this system must follow the requirements under 5 U.S.C. 552a(e)(10) and 43 CFR 2.51 for security standards. A security plan was developed to prevent unauthorized access to the system. The plan addresses application security, administration/user security, and application agreements. Access to the system is limited to authorized personnel whose official duties require such access. The EEAS system will be maintained at the Government contractor's facility at a secured data center.

Retention and disposal:

Records in this system will be retained indefinitely pending completion of Cobell et al. v. Norton, et al., U.S.D.C. D.C., No. 1:96CV01285 or until the Court orders the Department to retain/dispose of these records differently.

System manager(s) and address:

The Technology Services Division, Administrative Operations Directorate, National Business Center, Department of the Interior, MS-1540-MIB, 1849 C St. NW., Washington, DC 20240.

Notification procedures:

To determine whether your records are in this Privacy Act system of records, contact the Privacy Act Officer at the bureau/office from which your email message was sent or where it was received (see list of participating bureau/offices identified in the “Categories of individuals” section above). Interior bureaus/offices are listed at the Department of the Interior Web site at www.doi.gov. The request must meet the requirements of 43 CFR 2.60. Provide the following information with your request:

(a) Proof of your identity;

(b) List of all the names by which you have been known, such as maiden name or alias;

(c) Your Social Security Number;

(d) Your mailing address;

(e) Time period(s) that records pertaining to you may have been created or maintained, to the extent known by you (See 43 CFR 2.60(b)(3)); and

(f) Specific description or identification of the records you are requesting (including whether you are asking for a copy of all of your records or only a specific part of them), and the maximum amount of money that you are willing to pay for their copying (See 43 CFR 2.63(b)(4)).

Record access procedures:

To request access to records, follow procedures in the “Notification procedure” section above. The request must meet the requirements of 43 CFR 2.63. Provide with your request the same information identified in the “Notification procedures” sections.

Contesting record procedures:

To request an amendment of a record, send requests in writing to the contacts identified in the “Notification procedure” section above. The request must meet the requirements of 43 CFR 2.71.

Records source categories:

Some information maintained in the system is collected from mag-tapes provided by Interior bureau/office email backup systems from those installations identified in the “Categories of individuals” section above. This information is downloaded onto a hard drive managed by the contractor and stored digitally. Information from Interior bureau/office e-mail servers will be captured in real time, transmitted electronically through secured networks, and captured and stored electronically into the EEAS.

Exemptions claimed for the system:

None.

[FR Doc. 02-17587 Filed 7-11-02; 8:45 am]

BILLING CODE 4310-RK-P